Presidential Determination No. 2017-09 of June 13, 2017

Presidential Determination Pursuant to Section 4533(a)(5) of the Defense Production Act of 1950

Memorandum for the Secretary of Defense

By the authority vested in me as President by the Constitution and the laws of the United States, including section 4533(a)(5) of the Defense Production Act of 1950 (the “Act”) (50 U.S.C. 4533(a)(5)), I hereby determine, pursuant to section 4533(a)(5) of the Act, that critical technology item shortfalls affecting adenovirus vaccine production capability; high strength, inherently fire and ballistic resistant, co-polymer aramid fibers industrial capability; secure hybrid composite shipping container industrial capability; and three-dimensional ultra-high density microelectronics for information protection industrial capability are critical to national defense.

Without Presidential action under this Act, the United States defense industrial base cannot reasonably be expected to adequately provide those capabilities or critical technology items in a timely manner. Further, purchases, purchase commitments, or other action pursuant to section 4533 of the Act are the most cost effective, expedient, and practical alternative method for meeting the need for those capabilities or critical technology items.

You are authorized and directed to publish this memorandum in the Federal Register.

THE WHITE HOUSE,

Washington, June 13, 2017

[FR Doc. 2017-12622

Filed 6-14-17; 11:15 am]

Billing code 5001-06-P